COMMITTEE FOR PURCHASE FROM PEOPLE WHO ARE BLIND OR SEVERELY DISABLED

Procurement List; Deletions

AGENCY: Committee for Purchase From People Who Are Blind or Severely Disabled.

ACTION: Deletions from the procurement list.

SUMMARY: This action deletes service(s) from the Procurement List that were furnished by nonprofit agencies employing persons who are blind or have other severe disabilities.

DATES: Date added to and deleted from the Procurement List: September 29, 2024.

ADDRESSES: Committee for Purchase From People Who Are Blind or Severely Disabled, 355 E Street SW, Suite 325, Washington, DC 20024.

FOR FURTHER INFORMATION CONTACT: Michael R. Jurkowski, Telephone: (703) 785-6404, or email CMTEFedReg@AbilityOne.gov.

SUPPLEMENTARY INFORMATION:

Deletions

On 7/26/2024 (89 FR 60605), the Committee for Purchase From People Who Are Blind or Severely Disabled published notice of proposed deletions from the Procurement List. This notice is published pursuant to 41 U.S.C. 8503 (a)(2) and 41 CFR 51-2.3.

After consideration of the relevant matter presented, the Committee has determined that the service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the service(s) to the Government.

3. There are no known regulatory alternatives which would accomplish the objectives of the Javits-Wagner-O'Day Act (41 U.S.C. 8501-8506) in connection with the service(s) deleted from the Procurement List.

End of Certification

Accordingly, the following service(s) are deleted from the Procurement List:

Service(s)

Service Type: Mailroom Operation

Mandatory for: National Guard Bureau, Arlington Hall Building One and Two, Arlington, VA

Authorized Source of Supply: Didlake, Inc., Manassas, VA

Contracting Activity: DEPT OF THE ARMY, W39L USA NG READINESS CENTER

Service Type: Grounds Maintenance

Mandatory for: U.S. Army Reserve Center: l8791 Snouffers School Road, Gaithersburg, MD

Contracting Activity: DEPT OF THE ARMY, W6QM MICC CTR-FT DIX (RC)

Service Type: Mail and Messenger Service

Mandatory for: U.S. Army, U.S. Army Test and Evaluation Command, Aberdeen Proving Ground, MD

Authorized Source of Supply: DePaul Industries, Portland, OR

Contracting Activity: DEPT OF THE ARMY, W6QK ACC-APG

Service Type: Custodial Service

Mandatory for: U.S. Army, Des Moines Military Entrance Processing Station, 7105 NW 70th Avenue, Johnston, IA

Contracting Activity: DEPT OF THE ARMY, W6QM MICC-FT KNOX

Service Type: Janitorial/Custodial

Mandatory for: Automated Flight Service Station and ATC Towere: Bowman Field, Louisville, KY

Contracting Activity: TRANSPORTATION, DEPARTMENT OF, DEPT OF TRANS

Service Type: Custodial Services

Mandatory for: U.S. Capitol Building, Capitol Visitor Center, 2nd and D Street SW, Washington, DC

Authorized Source of Supply: Fedcap Rehabilitation Services, Inc., New York, NY

Contracting Activity: Architect of the Capitol

Service Type: Janitorial/Grounds Maintenance

Mandatory for: U.S. Mint: 155 Hermann Street, San Francisco, CA

Authorized Source of Supply: Toolworks, Inc., San Francisco, CA

Contracting Activity: UNITED STATES MINT, DEPT OF TREAS/U.S. MINT

Service Type: Janitorial Service

Mandatory for: U.S. Fish and Wildlife Service, Rocky Mountain Arsenal National Wildlife Refuge, 6550 Gateway Road, Commerce City, CO

Authorized Source of Supply: Bayaud Enterprises, Inc., Denver, CO

Contracting Activity: U.S. FISH AND WILDLIFE SERVICE, U.S. FISH AND WILDLIFE

Michael R. Jurkowski,
Director, Business Operations.

[FR Doc. 2024-19523 Filed 8-29-24; 8:45 am]

BILLING CODE 6353-01-P